DEPARTMENT OF AGRICULTURE

Forest Service

Olympic Peninsula Resource Advisory Committee

AGENCY: Forest Service, USDA.

ACTION: Notice of meeting.

SUMMARY: The Olympic Peninsula Resource Advisory Committee will meet on Thursday, June 16, 2005. The meeting will be held at the PUD Auditorium, 307 West Cota Street, Shelton, Washington. The meeting will begin at 9:30 a.m. and end at approximately 3:30 p.m. Agenda topics are: Approval of prior meeting minutes; approval of by-laws; update on prior-year Title III projects; update of national RAC training meeting; update on prior year Title II projects; review project proposals; select projects for recommendation for approval; and public comments. All Olympic Peninsula Resource Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: May 17, 2005.
Dale Hom,
Forest Supervisor, Olympic National Forest.

[FR Doc. 05-10294 Filed 5-23-05; 8:45 am]

BILLING CODE 3410-11-M